FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than April 14, 2017.

A. Federal Reserve Bank of Chicago (Colette A. Fried, Assistant Vice President) 230 South LaSalle Street, Chicago, Illinois 60690-1414:

1. Minier Financial, Inc. Employee Stock Ownership Plan with 401(k) provisions, Minier, Illinois; to acquire an additional 9.8 percent, for a total of 51 percent, of Minier Financial, Inc., Minier, Illinois, and thereby increase its indirect ownership of First Farmers State Bank, Minier, Illinois.

2. WB Bancorp, Inc., New Berlin, Illinois; to merge with MC Bancorp, Inc. and thereby indirectly acquire Bank of Modesto, both of Modesto, Illinois.

B. Federal Reserve Bank of Kansas City (Dennis Denney, Assistant Vice President) 1 Memorial Drive, Kansas City, Missouri 64198-0001:

1. Madison County Financial, Inc.; to become a bank holding company by acquiring Madison County Bank, both in Madison County, Nebraska.

C. Federal Reserve Bank of Dallas (Robert L. Triplett III, Senior Vice President) 2200 North Pearl Street, Dallas, Texas 75201-2272:

1. A.N.B. Holding Company, Ltd., Terrell, Texas; to acquire additional shares, up to 38 percent, of The ANB Corporation, Terrell, Texas, and thereby indirectly acquire The American National Bank of Texas, Terrell, Texas, and Lakeside Bancshares, Inc., Rockwall, Texas, and thereby indirectly acquire Lakeside National Bank, Rockwall, Texas.

D. Federal Reserve Bank of San Francisco (Gerald C. Tsai, Director, Applications and Enforcement) 101 Market Street, San Francisco, California 94105-1579:

1. Columbia Banking System, Inc., Tacoma, Washington; to acquire Pacific Continental Corporation and thereby indirectly acquire Pacific Continental Bank, both of Eugene, Oregon.

Board of Governors of the Federal Reserve System, March 16, 2017.
Yao-Chin Chao,
Assistant Secretary of the Board.

[FR Doc. 2017-05567 Filed 3-21-17; 8:45 am]

BILLING CODE 6210-01-P